DEPARTMENT OF COMMERCE

Foreign-Trade Zones Board

[Order No. 1461]

Approval for Manufacturing Authority, DEMAG Plastics Group (Plastic Production Machinery) Within Foreign-Trade Zone 40, Strongsville, Ohio

Pursuant to its authority under the Foreign-Trade Zones Act of June 18, 1934, as amended (19 U.S.C. 81a-81u), the Foreign-Trade Zones Board (the Board) adopts the following Order:

Whereas, the Cleveland-Cuyahoga County Port Authority, grantee of Foreign-Trade Zone 40, has requested authority under § 400.32(b)(2) of the Board's regulations on behalf of the DEMAG Plastics Group to manufacture plastic production machinery under zone procedures within Site 6B of FTZ 40 in Strongsville, Ohio (FTZ Docket 65-2005, filed December 20, 2005);

Whereas, notice inviting public comment has been given in the Federal Register (70 FR 77375, 12/30/05); and,

Whereas, the Board adopts the findings and recommendations of the examiner's report, and finds that the requirements of the FTZ Act and Board's regulations are satisfied, and that approval of the application is in the public interest;

Now, therefore, the Board hereby grants authority for the manufacture of plastic production machinery within Site 6B of FTZ 40, as described in the application, and subject to the FTZ Act and the Board's regulations, including Sec. 400.28.

Signed at Washington, DC, this 30th day of June 2006.
David M. Spooner,
Assistant Secretary for Import Administration, Alternate Chairman, Foreign-Trade Zones Board.
Attest:
Andrew McGilvray,
Acting Executive Secretary.

[FR Doc. E6-10955 Filed 7-11-06; 8:45 am]

BILLING CODE 3510-DS-S